DEPARTMENT OF COMMERCE

Foreign-Trade Zones Board

[B-20-2014]

Foreign-Trade Zone 175; Cedar Rapids, Iowa; Application for Reorganization Under Alternative Site Framework

An application has been submitted to the Foreign-Trade Zones (FTZ) Board by the Cedar Rapids Airport Commission, grantee of FTZ 175, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on March 6, 2014.

FTZ 175 was approved by the FTZ Board on February 1, 1991 (Board Order 509, 56 FR 5383, 2/11/1991).

The current zone includes the following sites: Site 1 (2,965 acres)—Cedar Rapids Municipal Airport Complex, located near the intersection of Highway 84 and Highway 218 in Cedar Rapids, Linn County; and, Site 2 (.03 acres)—Iowa Midlands Supply, Inc., 1860 McCloud Place NE., Cedar Rapids, Linn County.

The grantee's proposed service area under the ASF would include Appanoose, Benton, Blackhawk, Buchanan, Cedar, Clinton, Davis, Delaware, Des Moines, Dubuque, Grundy, Henry, Iowa, Jackson, Jefferson, Johnson, Jones, Keokuk, Lee, Linn, Louisa, Mahaska, Monroe, Muscatine, Poweshiek, Scott, Tama, Van Buren, Wapello, and Washington Counties, Iowa, as described in the application. If approved, the grantee would be able to serve sites throughout the service area based on companies' needs for FTZ designation. The application indicates that the proposed service area is adjacent to the Quad-Cities and Des Moines Customs and Border Protection ports of entry.

The applicant is requesting authority to reorganize its existing zone to include existing Site 1 as a “magnet” site. The applicant is also requesting that Site 2 be removed from the zone. The ASF allows for the possible exemption of one magnet site from the “sunset” time limits that generally apply to sites under the ASF, and the applicant proposes that Site 1 be so exempted. No subzones/usage-driven sites are being requested at this time. The application would have no impact on FTZ 175's previously authorized subzone.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is May 12, 2014. Rebuttal comments in response to material submitted during the foregoing period may be submitted during the subsequent 15-day period to May 27, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Elizabeth Whiteman at Elizabeth.Whiteman@trade.gov or (202) 482-0473.

Dated: March 6, 2014.
Andrew McGilvray,
Executive Secretary.

[FR Doc. 2014-05247 Filed 3-10-14; 8:45 am]

BILLING CODE 3510-DS-P